DEPARTMENT OF JUSTICE

Antitrust Division

Notice Pursuant to the National Cooperative Research and Production Act of 1993—National Electrical Manufacturers Association

Notice is hereby given that, on September 17, 2004, pursuant to section 6(a) of the National Cooperative Research and Production Act of 1993, 15 U.S.C. 4301 et seq. (“the Act”), National Electrical Manufacturers Association (“NEMA”) has filed written notifications simultaneously with the Attorney General and the Federal Trade Commission disclosing (1) the name and principal place of business of the standards development organization and (2) the nature and scope of its standards development activities. The notifications were filed for the purpose of invoking the Act's provisions limiting the recovery of antitrrust plaintiffs to actual damages under specified circumstances.

Pursuant to section 6(b) of the Act, the name and principal place of business of the standards development organization is: National Electrical Manufacturers Association, Rosslyn, VA. The nature and scope of NEMA's standards development activities are; NEMA administers and publishes standards that are related to a spectrum of electrical products produced globally, including but not limited to, industrial automation equipment including industrial controls and systems, motors, and power sources for welding; lighting systems including lamps, lighting controls, lamp ballasts, and lighting fixtures (luminaries); consumer products including dry batteries, smoke and fire detectors, and residential controls; building construction products including circuit breakers, receptacles, conduit, outlet boxes, switches, surge suppressors, insulating materials, and wire and cable; equipment for the electric utility industry; and medical imaging equipment including CT, Ultrasound, X-ray, and MRI. NEMA also serves as Secretariat for DICOM (Digital Communications in Medicine) Standards Committee; certain ANSI Accredited Standards Committees (“ASC”); and certain technical committees of the International Electrotechnical Commission (IEC). NEMA also publishes the standards developed by itself and by DICOM and ASC.

Dorothy B. Fountain,
Deputy Director of Operations, Antitrust Division.

[FR Doc. 04-25842 Filed 11-19-04; 8:45 am]

BILLING CODE 4410-11-M